DEPARTMENT OF ENERGY

Federal Energy Regulatory Commission

Combined Notice of Filings #1

Take notice that the Commission received the following electric rate filings:

Docket Numbers: ER10-2137-009; ER12-161-008; ER12-164-007; ER12-645-009; ER10-2130-008; ER10-2131-009; ER10-2138-009; ER10-2139-009; ER10-2140-009; ER10-2141-009; ER11-4044-009; ER11-4046-008; ER10-2127-007; ER10-2125-009; ER14-25-005; ER10-2133-009; ER10-2124-008; ER11-3872-010; ER10-2132-008; ER10-2128-008; ER10-2764-008.

Applicants: Beech Ridge Energy LLC, Bishop Hill Energy LLC, Bishop Hill Energy III LLC, California Ridge Wind Energy LLC, Forward Energy LLC, Grand Ridge Energy LLC, Grand Ridge Energy II LLC, Grand Ridge Energy III LLC, Grand Ridge Energy IV LLC, Grand Ridge Energy V LLC, Gratiot County Wind LLC, Gratiot County Wind II LLC, Invenergy TN LLC, Judith Gap Energy LLC, Prairie Breeze Wind Energy LLC, Sheldon Energy LLC, Spring Canyon Energy LLC, Stony Creek Energy LLC, Willow Creek Energy LLC, Wolverine Creek Energy LLC, Vantage Wind Energy LLC.

Description: Notification of Change in Facts of Beech Ridge Energy LLC, et al.

Filed Date: 8/1/14.

Accession Number: 20140801-5051.

Comments Due: 5 p.m. ET 8/22/14.

Docket Numbers: ER12-1643-004.

Applicants: ISO New England Inc.

Description: Ext. Of Regulation Market Eff. Date to be effective 3/31/2015.

Filed Date: 8/1/14.

Accession Number: 20140801-5052.

Comments Due: 5 p.m. ET 8/22/14.

Docket Numbers: ER14-2557-000.

Applicants: PJM Interconnection, L.L.C.

Description: Amendment to the 2013 Annual RTEP Allocation Filing in Docket No. ER14-909-000 to be effective 1/1/2014.

Filed Date: 7/31/14.

Accession Number: 20140731-5204.

Comments Due: 5 p.m. ET 8/21/14.

Docket Numbers: ER14-2558-000.

Applicants: Puget Sound Energy, Inc.

Description: Bellingham Cold Storage—Orchard TX SA No. 708, 709 & 710 to be effective 5/1/2014.

Filed Date: 8/1/14.

Accession Number: 20140801-5011.

Comments Due: 5 p.m. ET 8/22/14.

Docket Numbers: ER14-2559-000.

Applicants: Puget Sound Energy, Inc.

Description: Bellingham Cold Storage-Roeder TX Agreements 705, 706 & 707 to be effective 5/1/2014.

Filed Date: 8/1/14.

Accession Number: 20140801-5012.

Comments Due: 5 p.m. ET 8/22/14.

Docket Numbers: ER14-2560-000.

Applicants: Puget Sound Energy, Inc.

Description: Tesoro TX Agreements 702, 703 & 704 to be effective 5/1/2014.

Filed Date: 8/1/14.

Accession Number: 20140801-5013.

Comments Due: 5 p.m. ET 8/22/14.

Docket Numbers: ER14-2561-000.

Applicants: Niagara Mohawk Power Corporation, New York Independent System Operator, Inc.

Description: NiMo cancellation: Cost Reimbursement Agreement No. 1953 w/Erie Blvd. Hydro to be effective 10/1/2014.

Filed Date: 8/1/14.

Accession Number: 20140801-5025.

Comments Due: 5 p.m. ET 8/22/14.

Docket Numbers: ER14-2562-000.

Applicants: Midcontinent Independent System Operator, Inc.

Description: 2014-08-01 SGIP Order 792 Filing to be effective 10/1/2014.

Filed Date: 8/1/14.

Accession Number: 20140801-5053.

Comments Due: 5 p.m. ET 8/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2014.
Nathaniel J. Davis, Sr.,
Deputy Secretary.

[FR Doc. 2014-18813 Filed 8-7-14; 8:45 am]

BILLING CODE 6717-01-P